DEPARTMENT OF THE INTERIOR

National Park Service

36 CFR Chapter I

The Negotiated Rule Making Advisory Committee for Off-Road Driving Regulations at Fire Island National Seashore

ACTION: Notice of changes and additions to the Negotiated Rulemaking Committee Membership.

SUMMARY: As required by section 3 of the Negotiated Rulemaking Act of 1990, 5 U.S.C. 564, the National Park Service (NPS) is giving notice of additions and changes to the members of the Negotiated Rulemaking Advisory Committee. The Committee was established to negotiate and develop a proposed rule revising off-road vehicle use regulations at Fire Island National Seashore (36 CFR 7.20).

FOR FURTHER INFORMATION CONTACT: Barry T. Sullivan, Acting Superintendent, Fire Island National Seashore, 120 Laurel Street, Patchogue, New York 11772; telephone 631-289-4810, ext. 221; fax 631-289-4898.

SUPPLEMENTARY INFORMATION: The Secretary has determined that establishment of this Committee is in the public interest and supports the National Park Service in performing its duties and responsibilities under the National Park Service Organic Act, 16 U.S.C. 1 et seq., and the Fire Island National Seashore, Act 16 U.S.C. 459e et seq.

Because of a transfer to another National Park Service site, Constantine Dillon is no longer the primary representative for the Department of the Interior. Barry Sullivan will become the primary representative and Wayne Valentine the alternate.

The Designated Federal Official is changed from Constantine Dillon to Barry Sullivan.

Because he will be running for public office and will not have the time to serve on the committee, J. Lee Snead resigned from the committee. Laurie Farber will serve as the primary representative for Visitors, and Guy Jacob will serve as alternate.

Due to a change in assigned officers, Suffolk County Police Dept. has requested that their primary representative be changed from Deputy Inspector Robert C. Cassagne to Captain William Read. They have also requested that their alternate representative be changed from Captain Henry A. Mulligan to Police Officer Brian Cassidy.

The Inc. Village of Saltaire has requested that their alternate representative be changed from Scott Rosenblum to John Zaccaro, Jr.

The Inc. Village of Ocean Beach has requested that their primary representative be changed from James Mallott to Andrew Miller.

So that they would have better representation on the committee, the following groups have added alternate representatives.

Utility companies—Michael Harvey

On-island contractors—Walter Boss

Off-island contractors—Douglas R. Teague

Town of Brookhaven—Linda B. Petersen

Village of Ocean Beach—Joseph C. Loeffler, Jr.

Dated: September 23, 2002.
Barry T. Sullivan,
Acting Superintendent, Fire Island National Seashore.

[FR Doc. 02-26602 Filed 10-17-02; 8:45 am]

BILLING CODE 4310-76-M